DEPARTMENT OF TRANSPORTATION

Federal Aviation Administration

Notice of Proposed Information Collection.

AGENCY: Federal Aviation Administration (FAA), DOT.

ACTION: Notice.

SUMMARY: In compliance with the Paperwork Reduction Act (44 U.S.C. 3501 et seq.), the FAA invites public comment on one new public information collection which will be submitted to OMB for approval.

DATES: Comments must be received on or before August 29, 2005.

ADDRESSES: Comments may be mailed or delivered to the FAA at the following address: Ms. July Street, ABA-20, Room 613, Federal Aviation Administration, Information Systems and Technology Services Staff, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following collection of information in order to evaluate the necessity of the collection, the accuracy of the agency's estimate of the burden, the quality, utility, and clarity of the information to be collected, and possible ways to minimize the burden of the collection in preparation for submission to approve the clearance of the following information collection.

Following is a summary of the new collection:

Title: Automated Flight Service Station Customer Satisfaction Survey. The proposed survey will be conducted to determine customer satisfaction with Lockheed Martin's provision of flight services through the contract that was competitively sourced in an OMB A-76 Circular Competitive Sourcing initiative. The results of the survey will be used as a measure in evaluating Lockheed Martin's performance of the service. Responses are voluntary solicited from the customers (primarily general aviation pilots). The estimated annual reporting burden is 1333 hours.

Dated: Issued in Washington, DC, on June 23, 2005.
Judith D. Street,
FAA Information Collection Clearance Officer, APF-100.

[FR Doc. 05-12884 Filed 6-29-05; 8:45 am]

BILLING CODE 4910-13-M